DEPARTMENT OF ENERGY

Federal Energy Regulatory Commission

Notice of Application Tendered for Filing With the Commission

November 2, 2001.

Take notice that the following hydroelectric application has been filed with the Commission and is available for public inspection.

a. Type of Application: Original Minor License.

b. Project No.: 11659-002.

c. Date filed: October 23, 2001.

d. Applicant: Gustavus Electric Company (GEC).

e. Name of Project: Falls Creek Hydroelectric Project.

f. Location: On Falls Creek (also known as the Kahtaheena River), in southeastern Alaska near the town of Gustavus. The project would be located on lands currently located within the boundary of Glacier Bay National Park and administered by the National Park Service. The Glacier Bay National Park Boundary Adjustment Act of 1998 (Act) provides that if a license is issued for the project, the minimum amount of Glacier Bay National Park land necessary to construct and operate the hydroelectric project would be transferred, as part of a land exchange, to the State of Alaska. The Act also authorizes the submittal of a license application for this project to the Federal Energy Regulatory Commission.

g. Filed Pursuant to: Federal Power Act 16 U.S.C. 791 (a)-825(r).

h. Applicant Contact: Richard Levitt, Gustavus Electric Company, P.O. Box 102, Gustavus, Alaska 99826; (907) 697-2299.

i. FERC Contact: Bob Easton, Federal Energy Regulatory Commission, 888 First Street N.E., Washington, D.C. 20426; (202) 219-2782, Email: robert.easton@ferc.fed.us.

j. The application is not ready for environmental analysis at this time.

k. The Falls Creek Hydroelectric Project would consist of: (1) An approximately 70-foot-long and 10-foot-high dam; (2) a 0.5-acre reservoir having no storage capacity at elevation 665 feet mean sea level; (3) a powerhouse containing one generating unit for a total installed capacity of 800 kilowatts; (4) 5 miles of buried transmission line; and (5) appurtenant facilities. The project is estimated to generate an average of 4.8 million kilowatthours annually. The dam and project facilities would be owned by the applicant.

1. A copy of the application is on file with the Commission and is available for public inspection. This filing may also be viewed on the web at http://www.ferc.gov using the “RIMS” link—select “Docket #” and follow the instructions (call 202-208-2222 for assistance). A copy is also available for inspection and reproduction at the address in item h above.

Linwood A. Watson, Jr.,
Acting Secretary.

[FR Doc. 01-28029 Filed 11-7-01; 8:45 am]

BILLING CODE 6717-01-P